DEPARTMENT OF THE INTERIOR

Fish and Wildlife Service

[FWS-R2-ES-2010-N282; 20124-1112-0000-F2]

Intent To Prepare a Draft Environmental Impact Statement and Associated Documents for Development in Bexar County and the City of San Antonio, TX

AGENCY: Fish and Wildlife Service, Interior.

ACTION: Notice of intent; announcement of public scoping meetings; request for comments.

SUMMARY: We, the U.S. Fish and Wildlife Service (Service), advise the public that we intend to prepare a draft Environmental Impact Statement (EIS) to evaluate the impacts of, and alternatives to, the proposed issuance of an incidental take permit (ITP)under the Endangered Species Act of 1973, as amended (Act), to Bexar County, Texas, and the City of San Antonio, Texas (applicants). The ITP would authorize incidental take of five Federally listed species resulting from residential, commercial, and other development activities associated with the proposed Southern Edwards Plateau (SEP) Regional Habitat Conservation Plan (RHCP), which includes Bexar and surrounding counties. We also announce plans for a series of public scoping meetings throughout the proposed plan area and the opening of a public comment period.

DATES: Written comments on alternatives and issues to be addressed in the draft EIS must be received by July 26, 2011. Public scoping meetings will be held at various locations throughout the proposed seven-county plan area. Public scoping meetings will be held between May1, 2011 and June 15, 2011. Exact meeting locations and times will be announced in local newspapers and on the Service's Austin Ecological Services Office Web site, http://www.fws.gov/southwest/es/AustinTexas/, at least 2 weeks prior to each meeting.

ADDRESSES: To request further information or submit written comments, use one of the following methods, and note that your information request or comment is in reference to the SEP RHCP/EIS:

• E-mail: Allison Arnold@fws.gov;

• U.S. Mail: Field Supervisor, Austin Ecological Services Field Office, 10711 Burnet Road, Suite 200, Austin, TX 78758-4460;

• Telephone: 512/490-0057; or

• Fax: 512/490-0974.

SUPPLEMENTARY INFORMATION: This notice is published in compliance with the National Environmental Policy Act (NEPA) of 1969, as amended (42 U.S.C. 4321 et seq.), and its implementing regulations (40 CFR 1506.6), and section 10(c) of the Act (16 U.S.C. 1531 et seq.). The Service intends to gather the information necessary to determine impacts and alternatives to support a decision regarding the potential issuance of an ITPto the applicants under section 10(a)(1)(B) of the Act, and the implementation of the supporting draft RHCP.

The applicants propose to develop an RHCP as part of their application for an ITP. The proposed RHCP will include measures necessary to minimize and mitigate the impacts, to the maximum extent practicable, of potential proposed taking of Federally listed species and the habitats upon which they depend, resulting from residential, commercial, and other development activities within the proposed plan area, to include Bexar and surrounding counties.

Background

Section 9 of the Act prohibits taking of fish and wildlife species listed as endangered or threatened under section 4 of the Act. Under the Act, the term “take” means to harass, harm, pursue, hunt, shoot, wound, kill, trap, capture, or collect, or to attempt to engage in any such conduct. The term “harm” is defined in the regulations as significant habitat modification or degradation that results in death or injury to listed species by significantly impairing essential behavioral patterns, including breeding, feeding, or sheltering (50 CFR 17.3). The term “harass” is defined in the regulations as to carry out actions that create the likelihood of injury to listed species to such an extent as to significantly disrupt normal behavioral patterns, which include, but are not limited to, breeding, feeding, or sheltering (50 CFR 17.3). However, the Service may, under specified circumstances, issue permits that allow the take of Federally listed species, provided that the take that occurs is incidental to, but not as the purpose of, an otherwise lawful activity. Regulations governing permits for endangered and threatened species are at 50 CFR 17.22 and 17.32, respectively.

Section 10(a)(1)(B) of the Act contains provisions for issuing such incidental take permits to non-Federal entities for the take of endangered and threatened species, provided the following criteria are met: (1) The taking will be incidental; (2) the applicants will, to the maximum extent practicable, minimize and mitigate the impact of such taking; (3) the applicants will develop a draft RHCP and ensure that adequate funding for the plan will be provided; (4) the taking will not appreciably reduce the likelihood of the survival and recovery of the species in the wild; and (5) the applicants will carry out any other measures that the Service may require as being necessary or appropriate for the purposes of the RHCP.

Thus, the purpose of issuing a programmatic ITP is to allow the applicants, under their respective City or County authority, to authorize development while conserving the covered species and their habitats. Implementation of a programmatic multispecies habitat conservation plan, rather than a species-by-species/project-by-project approach, will maximize the benefits of conservation measures for covered species and eliminate expensive and time-consuming efforts associated with processing individual ITPs for each project within the applicants' proposed seven-county plan area. The Service expects that the applicants will request ITP coverage for a period of 30 years.

Scoping Meetings

The purpose of scoping meetings is to provide the public with a general understanding of the background of the proposed RHCP and activities that would be covered by the draft RHCP, alternative proposals under consideration for the draft EIS, and the Service's role and steps to be taken to develop the draft EIS for the draft RHCP.

The meeting format will consist of a 1-hour open house prior to the formal scoping meeting. The open house format will provide an opportunity to learn about the proposed action, permit area, and species covered. The open house will be followed by a formal presentation of the proposed action, summary of the NEPA process, and presentation of oral comments from the public. A court reporter will be present at each meeting, and an interpreter will be present when deemed necessary. The primary purpose of these meetings and public comment period is to solicit suggestions and information on the scope of issues and alternatives for the Service to consider when drafting the EIS. Oral and written comments will be accepted at the meetings. Comments can also be submitted to persons listed in the ADDRESSES section. Once the draft EIS and draft RHCP are completed and made available for review, there will be additional opportunity for public comment on the content of these documents through an additional public hearing and comment period.

Alternatives

The proposed action presented in the draft EIS will be compared to the No-Action alternative. The No-Action alternative represents estimated future conditions to which the proposed action's estimated future conditions can be compared. Other alternatives considered, including impacts associated with each alternative evaluated, will also be addressed in the draft EIS.

No-Action Alternative

Because the proposed covered activities (development activities) are vital in providing services to accommodate future population growth, energy, and infrastructure demand, these activities would continue regardless of whether a 10(a)(1)(B) permit is requested or issued. The applicants would continue to avoid and minimize impacts to protected species' habitat. Where potential impacts to Federally protected species within the proposed permit area could not be avoided, they would be minimized and mitigated through individual formal or informal consultation with the Service, when applicable, or applicants would potentially seek an individual section 10(a)(1)(B) ITP on a project-by-project basis. Although future activities by the applicants would be similar to those covered by the RHCP, not all activities would necessitate an incidental take permit or consultation with the Service. Thus, under this alternative, numerous individual section 10(a)(1)(B) permit applications would likely be filed over the 30-year project period. This project-by-project approach would be more time-consuming and less efficient; and could result in an isolated independent mitigation approach.

Proposed Alternative

The proposed action is the issuance of an ITP for the covered species for development activities within the proposed permit area for a period of 30 years. The proposed RHCP, which must meet the requirements of section 10(a)(2)(A) of the Act by providing measures to minimize and mitigate the effects of the potential incidental take of covered species to the maximum extent practicable, would be developed and implemented by the applicants. This alternative could allow for a comprehensive mitigation approach for unavoidable impacts and reduce the permit processing effort for the Service.

Activities proposed for coverage under the proposed permit will be otherwise lawful activities that would occur consistent with the RHCP and include, but are not limited to: (1) Construction, use, and/or maintenance of public or private land development projects, (e.g., single- and multi-family homes, residential subdivisions, farm and ranch improvements, commercial or industrial projects, government offices, and park infrastructure); (2) construction, maintenance, and/or improvement of roads, bridges, and other transportation infrastructure; (3) installation and/or maintenance of utility infrastructure (e.g. transmission or distribution lines and facilities related to electric, telecommunication, water, wastewater, petroleum or natural gas, and other utility products or services); (4) the construction, use, maintenance, and/or expansion of schools, hospitals, corrections or justice facilities, and community service development or improvement projects; (5) construction, use, or maintenance of other public infrastructure and improvement projects (e.g., projects by municipalities, counties, school districts); (6) any management activities that are necessary to manage potential habitat for the covered species within the RHCP system that could temporarily result in incidental take; and (7) the construction, use, maintenance and/or expansion of quarries, gravel mining, or other similar extraction projects.

It is anticipated that the following species will be included as covered species in the RHCP: The golden-cheeked warbler (Dendroica chrysoparia), black-capped vireo (Vireo atricapilla), Madla Cave meshweaver (Cicurina madla), and two ground beetle species, each of which has no common name (Rhadine exilis and Rhadine infernalis). For these covered species, the applicants would seek incidental take authorization. Six Federally listed endangered species have been recommended for inclusion as covered species: Robber Baron Cave meshweaver (Cicurina baronia), Bracken Bat Cave meshweaver (Cicurina venii), Government Canyon Bat Cavemeshweaver (Cicurina vespera), Government Canyon Bat Cave spider (Neoleptoneta microps), Cokendolpher Cave harvestman (Texella cokendolpheri), and Helotes mold beetle (Batrisodes venyivi). Seven additional species have been identified as potentially affected by the proposed covered activities and maybe considered for inclusion in the RHCP: Whooping crane (Grus americana), big red sage (Salvia penstemonoides), to busch fishhook cactus (Sclerocactus brevihamatus ssp tobuschii), bracted twistflower (Streptanthus bracteatus), golden orb (Quadrula aurea), Texas pimpleback (Quadrula petrina), and Texas fatmucket (Lampsilis bracteata). Incidental take authorization for these additional species may be necessary during the term of the ITP. Inclusion of these species will be determined during the RHCP planning and development process. The RHCP may include conservation measures to benefit these species, where practicable, and support research to help fill data gaps regarding the biology, habitat, distribution, and/or management of these species, even if incidental take coverage is not requested under the ITP.

Candidate and Federally listed species not likely to be taken by the covered activities, and therefore not covered by the proposed ITP, may also be addressed in the draft RHCP to explain why the applicants believe these species will not be taken.

Counties included in the proposed permit area are Bexar, Medina, Bandera, Kerr, Kendall, Blanco, and Comal Counties.

Public Availability of Comments

Written comments we receive become part of the public record associated with this action. Before including your address, phone number, e-mail address, or other personal identifying information in your comment, you should be aware that the entire comment—including your personal identifying information—may be made publicly available at any time. While you can ask us in your comment to withhold your personal identifying information from public review, we cannot guarantee that we will be able to do so.

Environmental Review

The Service will conduct an environmental review to analyze the proposed action, as well as other alternatives evaluated and the associated impacts of each. The draft EIS will be the basis for the impact evaluation for each species covered and the range of alternatives to be addressed. The draft EIS is expected to provide biological descriptions of the affected species and habitats, as well as the effects of the alternatives on other resources, such as vegetation, wetlands, wildlife, geology and soils, air quality, water resources, water quality, cultural resources, land use, recreation, water use, local economy, and environmental justice.

Following completion of the environmental review, the Service will publish a notice of availability and a request for comment on the draft EIS and the applicants' permit application, which will include the draft RHCP. The draft EIS and draft RHCP are expected to be completed and available to the public in late 2011.

Joy E. Nicholopoulos,
Acting Regional Director, Region 2, Albuquerque, New Mexico.

[FR Doc. 2011-10143 Filed 4-26-11; 8:45 am]

BILLING CODE 4510-55-P